DEPARTMENT OF ENERGY

Federal Energy Regulatory Commission

Combined Notice of Filings #1

Take notice that the Commission received the following exempt wholesale generator filings:

Docket Numbers: EG25-295-000.

Applicants: Enbridge Energy, Limited Partnership.

Description: Enbridge Solar (Sequoia I), LLC submits Notice of Self-Certification of Exempt Wholesale Generator Status.

Filed Date: 4/22/25.

Accession Number: 20250422-5215.

Comment Date: 5 p.m. ET 5/13/25.

Docket Numbers: EG25-302-000.

Applicants: Bypass BESS LLC.

Description: Bypass BESS LLC submits Notice of Self-Certification of Exempt Wholesale Generator Status.

Filed Date: 4/24/25.

Accession Number: 20250424-5064.

Comment Date: 5 p.m. ET 5/15/25.

Docket Numbers: EG25-303-000.

Applicants: Shallow Basket Energy, LLC.

Description: Shallow Basket Energy, LLC submits Notice of Self-Certification of Exempt Wholesale Generator Status.

Filed Date: 4/24/25.

Accession Number: 20250424-5152.

Comment Date: 5 p.m. ET 5/15/25.

Take notice that the Commission received the following electric rate filings:

Docket Numbers: ER25-1343-002.

Applicants: Alliant Energy Corporate Services, Inc.

Description: Compliance filing: Withdraw Supplement to be effective 4/24/2025.

Filed Date: 4/24/25.

Accession Number: 20250424-5043.

Comment Date: 5 p.m. ET 5/15/25.

Docket Numbers: ER25-1421-000.

Applicants: Greenleaf Energy Unit 2 LLC.

Description: Tariff filing per 385.602: 2025-02-26—Offer of Settlement and Request for Waiver to be effective 4/28/2025.

Filed Date: 2/26/25.

Accession Number: 20250226-5214.

Comment Date: 5 p.m. ET 5/14/25.

Docket Numbers: ER25-2026-000.

Applicants: American Electric Power Service Corporation.

Description: § 205(d) Rate Filing: AEPSC submits a revised ILDS w/City of St Clairsville SA No. 1427 to be effective 7/1/2025.

Filed Date: 4/24/25.

Accession Number: 20250424-5026.

Comment Date: 5 p.m. ET 5/15/25.

Docket Numbers: ER25-2027-000.

Applicants: AEP Texas Inc.

Description: § 205(d) Rate Filing: AEPTX-Big Country EC-Golden Spread EC (Wahpekute) FDA Cancellation to be effective 6/24/2025.

Filed Date: 4/24/25.

Accession Number: 20250424-5078.

Comment Date: 5 p.m. ET 5/15/25.

Docket Numbers: ER25-2028-000.

Applicants: Tri-State Generation and Transmission Association, Inc.

Description: Tariff Amendment: Notice of Cancellation of Service Agreement FERC No. 905 to be effective 6/24/2025.

Filed Date: 4/24/25.

Accession Number: 20250424-5088.

Comment Date: 5 p.m. ET 5/15/25.

Docket Numbers: ER25-2029-000.

Applicants: PJM Interconnection, L.L.C.

Description: § 205(d) Rate Filing: Original GIA, Service Agreement No. 7640; AE2-305/AF1-053/AF1-054 to be effective 3/25/2025.

Filed Date: 4/24/25.

Accession Number: 20250424-5090.

Comment Date: 5 p.m. ET 5/15/25.

Docket Numbers: ER25-2030-000.

Applicants: Roadrunner Solar LLC.

Description: Initial Rate Filing: LGIA Co-Tenancy Agreement among Roadrunner Solar, Battery and BESS SF to be effective 7/1/2025.

Filed Date: 4/24/25.

Accession Number: 20250424-5159.

Comment Date: 5 p.m. ET 5/15/25.

Docket Numbers: ER25-2031-000.

Applicants: Roadrunner Solar SF LLC.

Description: § 205(d) Rate Filing: Shared Facilities Agreement Among Roadrunner Solar SF and BESS SF to be effective 7/1/2025.

Filed Date: 4/24/25.

Accession Number: 20250424-5162.

Comment Date: 5 p.m. ET 5/15/25.

Docket Numbers: ER25-2032-000.

Applicants: Roadrunner Battery Storage LLC.

Description: Initial Rate Filing: Certificate of Concurrence with Roadrunner Solar LLC to be effective 7/1/2025.

Filed Date: 4/24/25.

Accession Number: 20250424-5164.

Comment Date: 5 p.m. ET 5/15/25.

Docket Numbers: ER25-2033-000.

Applicants: Roadrunner BESS SF LLC.

Description: § 205(d) Rate Filing: Certificate of Concurrence with Roadrunner Solar and Solar SF to be effective 7/1/2025.

Filed Date: 4/24/25.

Accession Number: 20250424-5167.

Comment Date: 5 p.m. ET 5/15/25.

Docket Numbers: ER25-2034-000.

Applicants: Public Service Company of Colorado.

Description: § 205(d) Rate Filing: 2025-04-24—PSC—WAPA Exhibit No. 1—Meter Facilities—359—0.1.0 to be effective 6/23/2025.

Filed Date: 4/24/25.

Accession Number: 20250424-5185.

Comment Date: 5 p.m. ET 5/15/25.

Take notice that the Commission received the following electric securities filings:

Docket Numbers: ES25-35-000.

Applicants: Startrans IO, L.L.C.

Description: Amendment to Application Under Section 204 of the Federal Power Act for Authorization to Issue Securities of Startrans IO, L.L.C.

Filed Date: 4/23/25.

Accession Number: 20250423-5280.

Comment Date: 5 p.m. ET 5/5/25.

Docket Numbers: ES25-40-000.

Applicants: MidAmerican Energy Company.

Description: Application Under Section 204 of the Federal Power Act for Authorization to Issue Securities of MidAmerican Energy Company.

Filed Date: 4/23/25.

Accession Number: 20250423-5281.

Comment Date: 5 p.m. ET 5/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 24, 2025.
Carlos D. Clay,
Deputy Secretary.

[FR Doc. 2025-07455 Filed 4-29-25; 8:45 am]

BILLING CODE 6717-01-P